DEPARTMENT OF THE INTERIOR

Fish and Wildlife Service

Farallon National Wildlife Refuge Restoration Project

AGENCY: U.S. Fish and Wildlife Service, Department of the Interior.

ACTION: Notice of Intent and announcement of public meeting.

SUMMARY: In accordance with procedures for implementing the National Environmental Policy Act of 1969 (42 U.S.C. 4321-4370d), this notice advises the public that the U.S. Fish and Wildlife Service (Service) intends to gather information necessary to prepare a Federal environmental document (environmental assessment or environmental impact statement) for the proposed Farallon National Wildlife Refuge Restoration Project. This document will examine alternatives for eradicating non-native house mice on the South Farallon Islands (SFI) as a means of restoring populations of, and protecting native seabirds, insects and coastal plants, some of which are rare and declining due to the presence of non-native species. In addition, the Service proposes to implement preventative actions to keep non-native mammals from re-establishing on the SFI, and respond to any future re-introductions. The project would take place on Southeast Farallon Island (SEFI) and West End (WE) which together comprise the South Farallon Islands, and are located in San Francisco County, California. The South Farallon Islands are included in the Farallon National Wildlife Refuge which is managed by the Service.

The Service is furnishing this notice in order to: (1) Advise other federal, state, and local agencies, and the public of our intentions; (2) announce the initiation of a 45-day public scoping period; and (3) obtain suggestions and information on the scope of issues to be included in the environmental document.

DATES: Written comments from all interested parties must be postmarked by 45 days from the date of publication in the Federal Register. A public meeting is scheduled to be held in San Francisco, CA from 6:30 p.m.-8 p.m., May 17 2006, at the Marina Room in Building A, Fort Mason Center, San Francisco, CA. There is no street address; the location is at the intersection of Marina Boulevard and Buchanan Street. Directions for the public meeting are also available at http://www.fortmason.org/directions/index.html.

ADDRESSES: Please address comments and requests to be added to the mailing list to Jesse Irwin, Farallon National Wildlife Refuge, U.S. Fish and Wildlife Service, PO Box 524 Newark, CA 94560, facsimile: (510) 792-5828, e-mail: sfbaynwrc@fws.gov.

FOR FURTHER INFORMATION CONTACT: Project Biologists Jesse Irwin or Joelle Buffa at the above address or telephone: (510) 792-0222. Persons needing reasonable accommodations in order to attend and participate in the public meeting should contact Jesse Irwin sufficiently in advance of the meeting to allow time to process the request.

SUPPLEMENTARY INFORMATION: The Service is proposing to undertake the Farallon National Wildlife Refuge Restoration Project pursuant to the management authorities granted by the Refuge Improvement Act of 1997 (16 U.S.C. 668dd et seq.), the Endangered Species Act of 1973, as amended (16 U.S.C. 1531-1544), the Migratory Bird Treaty Act of 1918, as amended (16 U.S.C. 703-712), and the Fish and Wildlife Act of 1956, as amended (16 U.S.C. 742a-742j, not including 742d-l).

The Service is proposing to conduct an environmental review of the Farallon National Wildlife Refuge Ecosystem Restoration Project and prepare a federal environmental document analyzing impacts related to the ecosystem and the human environment from the project. The environmental review will analyze the Farallon National Wildlife Refuge Restoration Project, as well as a full range of reasonable alternatives. Alternatives for eradication may include the following methods or a combination of these methods: aerial broadcast of bait pellets containing rodenticides, hand broadcast of rodenticide pellets, and/or placing rodenticides in bait stations. Eradication would be followed by monitoring of the removal actions and the response of native biota to non-native species removal.

Should information become available during the scoping process that indicates the likelihood of significant environmental impacts from the Farallon National Wildlife Refuge Restoration Project, the Service will proceed with preparation of an environmental impact statement (EIS). Otherwise, an environmental assessment will be prepared.

The Service is requesting written comments regarding the project from interested individuals, organizations and agencies. Respondents should address concerns regarding potential environmental impacts to the human environment, mitigation measures for the project, and reasonable alternatives they feel could be included in the environmental analysis. Additional information, including the time and location of the public meeting, any changes to the project scope, and availability of draft documents for review will be sent out via local and regional press releases and direct mailings.

The environmental review of this project will be conducted in accordance with the requirements of the National Environmental Policy Act of 1969, as amended (42 U.S.C. 4321 et seq.), the Council on Environmental Quality's NEPA Regulations (40 CFR parts 1500-1508), other applicable federal laws and regulations, and applicable policies and procedures of the Service for compliance with those regulations.

Background: The South Farallon Islands, located approximately 44 kilometers (27 miles) west of San Francisco, are known for their rugged landscape and biological diversity. Twelve species of seabirds regularly breed on SFI, totaling 250,000-300,000 individuals. The South Farallon Islands are the largest seabird colony in the continental United States. Five species of seals and sea lions breed and haul out on SFI including Steller's sea lions which are listed as threatened under the Endangered Species Act. The Farallon National Wildlife Refuge is also home to multiple species of native coastal plants and insects. Non-native mice are also present on the island. Mice negatively impact seabirds through predation and habitat degradation. They are known to have played a role in the decline of many seabird species from islands around the world. At SFI, mice are contributing to the decline of ashy-storm petrels, a federally and state-listed Bird of Conservation Concern. Mice also feed on native plants and insects and can suppress or eliminate many of these species. Mice cache and disperse non-native plant seeds, further contributing to decreased habitat quality for nesting seabirds.

Following the proposed eradication, there is a threat of re-introduction of non-native mammals from grounded vessels and transport of people and materials to the island. The Project will also propose and evaluate measures to prevent any such introductions.

Dated: March 27, 2006.
Steve Thompson,
Manager, CA/NV Operations, Sacramento, California.

[FR Doc. E6-4820 Filed 4-13-06; 8:45 am]

BILLING CODE 4310-55-P